DEPARTMENT OF THE INTERIOR

Fish and Wildlife Service

[FWS-R1-ES-2008-N00172; 10120-1112-0000-F2]

Proposed Willamette Valley Native Prairie Habitat Programmatic Safe Harbor Agreement for the Fender's Blue Butterfly in Benton, Lane, Linn, Marion, Polk, and Yamhill Counties, OR

AGENCY: Fish and Wildlife Service, Interior.

ACTION: Notice of availability; receipt of application.

SUMMARY: The U.S. Fish and Wildlife Service (Service) proposes to issue itself an enhancement of survival permit pursuant to section 10(a)(1)(A) of the Endangered Species Act of 1973, as amended (Act), for a programmatic Safe Harbor Agreement (Agreement). The proposed term of the Agreement is 15 years, and the proposed term of the permit is 25 years. In accordance with regulation, the Service is completing the application process for this proposed permit. The requested permit would authorize the Service to extend incidental take coverage with assurances to eligible landowners who are willing to carry out habitat management measures that would benefit the federally-listed endangered Fender's blue butterfly (Icaricia icarioides fenderi) and the threatened Kincaid's lupine (Lupinus sulphureus ssp. kincaidii) by enrolling them under the Agreement as Cooperators through issuance of Certificates of Inclusion. The covered area or geographic scope of this Agreement includes the known and potential range of the Fender's blue butterfly, which occurs on prairie habitat within Benton, Lane, Linn, Marion, Polk, and Yamhill counties of Oregon. We request comments from the public on the permit application, proposed Agreement and related documents, which are available for review (see ADDRESSES below).

DATES: Comments must be received from interested parties on or before November 5, 2008.

ADDRESSES: You may submit your written comments to: Project Leader, Fish and Wildlife Service, 2600 S.E. 98th Ave., Suite 100, Portland, Oregon 97266, or facsimile (503) 231-6195. Include your name and address in your comments and refer to the “Willamette Valley Programmatic Safe Harbor Agreement.” Copies of the draft documents are available for public inspection, by appointment, at the above address during normal business hours. You may also view the documents on the Internet at http://www.fws.gov/oregonfwo/species/.

FOR FURTHER INFORMATION CONTACT: For further information or to receive copies of the documents on CD ROM, please contact Richard Szlemp at (503) 231-6179.

SUPPLEMENTARY INFORMATION: Under a Safe Harbor Agreement, participating landowners voluntarily undertake management activities on their property to enhance, restore, or maintain habitat benefiting species listed under the Act (16 U.S.C. 1531 et seq.). Safe Harbor Agreements, and the subsequent enhancement of survival permits that are issued pursuant to section 10(a)(1)(A) of the Act, encourage private and other non-federal property owners to implement conservation efforts for listed species by assuring that they will not be subjected to increased property use restrictions as a result of their efforts to attract listed species to their property, or to increase the numbers or distribution of listed species already on their property. Application requirements and issuance criteria for enhancement of survival permits through Safe Harbor Agreements are found in 50 CFR 17.22(c). These permits allow future incidental take of covered species above the mutually agreed upon baseline conditions for those species in accordance with the terms of the permit and accompanying agreement.

The Service has developed the proposed Agreement for the conservation of the Fender's blue butterfly. The Fender's blue butterfly was listed as an endangered species by the Service in 2000 (65 FR 3875). As of the time of its listing, it was known to occupy only 32 sites across 408 acres (165 hectares). Of the 32 sites found to support Fender's blue butterfly, Kincaid's lupine (Lupinus sulphureus ssp. kincaidii) has been documented as co-occurring as a larval host plant at 27 of the sites (65 FR 3875).

The geographical area covered by this Agreement includes the known and potential range of the Fender's blue butterfly within the Willamette Valley in Benton, Lane, Linn, Marion, Polk, and Yamhill counties of Oregon. Properties that are eligible for enrollment are non-Federal lands where the butterfly occurs or could occur through colonization, translocation, or reintroduction. Activities under the Agreement are also expected to benefit Kincaid's lupine, a federally-listed as threatened plant. However, Kincaid's lupine is not included as a “covered species.”

The Fender's blue butterfly is threatened due to few populations, low numbers, and habitat fragmentation. Conserving existing populations and actively maintaining, enhancing, and expanding the size of existing butterfly-occupied habitat patches is essential for recovery. In addition, reestablishing habitat connectivity by creating stepping stones of habitat between existing butterfly populations will improve the prospects for individuals to reach other suitable 9 habitats for reproduction, dispersal, and recolonization (71 FR 63874). This Agreement is intended to encourage non-federal landowners to undertake proactive conservation and restoration actions for the Fender's blue butterfly (and Kincaid's lupine).

Site-specific plans will be developed for each property to be enrolled. In addition to the monitoring, one or more of the following on-the-ground activities will be included in the plans: (a) Removal of invasive, non-native herbaceous plants and woody vegetation; (b) revegetation with native species; (c) collection of Kincaid's lupine seed and plant material for use in species recovery efforts; (d) reintroduction and augmentation of Kincaid's lupine; and (e) reducing threats. Environmental baseline conditions for the Fender's blue butterfly will be established on each property as lands are enrolled.

The programmatic nature of the Agreement provides eligible landowners with a streamlined process for obtaining assurances that specified actions taken to benefit the Fender's blue butterfly will not result in additional regulatory obligations under the Act. Without the regulatory assurances provided through the Agreement and permit, landowners may otherwise be unwilling or reluctant to engage in activities that would benefit the Fender's blue butterfly on their properties.

A draft Environmental Action Statement now available for public review (see ADDRESSES ) indicates that the proposed Agreement and permit decision may be eligible for a categorical exclusion under the National Environmental Policy Act of 1969 (NEPA; 42 U.S.C. 4321 et seq.).

The Service will evaluate the permit application, associated documents, and comments submitted thereon to determine whether the permit application meets the requirements of section 10(a) of the Act and the requirements under NEPA. All comments received, including names and addresses, will become part of the administrative record and will be available for review pursuant to section 10(c) of the Act. Individual respondents may request that we withhold their home addresses and telephone numbers to the extent allowable by law. If you wish us to withhold this personal information, you must state this prominently at the beginning of your comment. Anonymous comments will not be considered. All submissions from organizations or businesses, and from individuals identifying themselves as representatives or officials of organizations or businesses, are available for public inspection in their entirety.

If we determine that all requirements are met, we will sign the Agreement and issue an enhancement of survival permit under section 10(a)(1)(A) of the Act to the Service's Oregon Fish and Wildlife Office (OFWO). The OFWO will serve as the permit holder, and may extend coverage to interested, eligible landowners for the take of Fender's blue butterfly, incidental to otherwise lawful activities in accordance with the terms of the Agreement, Certificates of Inclusion and permit. Please note that the Service will not be receiving any assurances as holder of the permit, but permitted landowners will. This notice is provided pursuant to section 10(c) of the Act and NEPA regulations (40 CFR 1506.6).

Dated: August 8, 2008.
David J. Wesley,
Deputy Regional Director, U.S. Fish and Wildlife Service, Region 1, Portland, Oregon.

[FR Doc. E8-23556 Filed 10-3-08; 8:45 am]

BILLING CODE 4310-55-P